DEPARTMENT OF HEALTH AND HUMAN SERVICES

Centers for Medicare & Medicaid Services

42 CFR Parts 410, 414, and 485

[CMS-1204-CN]

RIN 0938-AL21

Medicare Program; Revisions to Payment Policies Under the Physician Fee Schedule for Calendar Year 2003 and Inclusion of Registered Nurses in the Personnel Provision of the Critical Access Hospital Emergency Services Requirement for Frontier Areas and Remote Locations

AGENCY: Centers for Medicare & Medicaid Services (CMS), HHS.

ACTION: Correction of final rule with comment period.

SUMMARY: This document corrects technical errors that appeared in the final rule with comment period published in the Federal Register on December 31, 2002, entitled, “Revisions to Payment Policies Under the Physician Fee Schedule for Calendar Year 2003 and Inclusion of Registered Nurses in the Personnel Provision of the Critical Access Hospital Emergency Services Requirement for Frontier Areas and Remote Locations”.

EFFECTIVE DATE: This rule is effective March 1, 2003.

FOR FURTHER INFORMATION CONTACT: Diane Milstead, (410) 786-3355.

SUPPLEMENTARY INFORMATION:

I. Background

In FR Doc. 02-32503 of December 31, 2002 (67 FR 79966), there were a number of technical errors that are identified and corrected in the Correction of Errors section below. Additionally there are various revisions to Addenda B, C, D and E. The provisions in this correction notice are effective as if they had been included in the document published December 31, 2002.

Discussion of Addenda B, C, D and E

1. In Addendum B, we assigned incorrect status indicators for the following CPT codes: Page 80111 for CPT code 67221; page 80143 for CPT codes 90723, 90740, 90743, 90744, 90746, 90747 and 90748; page 80158 for CPT codes 99026 and 99027; and page 80166 for HCPCS code J3370. We assigned incorrect status indicators and RVUS for the following CPT and HCPCS codes: Page 80147 for CPT code 92597; page 80149 for CPT codes 93315, 99315-TC, 99317 and 93317-TC; page 80156 for 95951 and 95951-TC, page 80158 for CPT code 99026 and 99027 and page 80163 for G0125 and G0125-TC. We also erroneously assigned RVUs to the following HCPCS codes that are not used for Medicare payment: Page 80164 for G0219 and G0219-26; page 80165 for G0255 and G0255-26. These corrections are reflected in correction number 12 to follow.

2. We indicated the incorrect global period in Addenda B and C for the following CPT codes: Page 80100 for CPT code 58550; pages 80074 and 80167 for CPT codes 33224; and page 80134 for CPT codes 77789, 77789-26 and 77789-TC. The corrected global period is in correction number 13 to follow.

3. In Addenda B and C, on pages 80044, 80165 and 80170, we erroneously assigned RVUs to a CPT code 0020T which is an emerging technology code and also created two new HCPCS codes (G0279 and G0280) with payments based on our valuation of this CPT code. However, assignment of RVUs for this CPT code is contrary to national policy established in the November 1, 2001 (66 FR 55269), final rule which stated that we would provide payment for emerging technology codes as determined by the carrier. In addition, based on the creation of these two G codes, we are not recognizing CPT code 0019T for Medicare purposes. Corrections for these services are in correction number 14.

4. In Addenda B on page 80097, incorrect work and practice expense RVUS were assigned to CPT code 53853. In addition, on page 80110 the RVUs listed under non-facility total and facility total were incorrect for the following codes: 66710, 66720, 66761 66762 and 66770. These corrections are reflected in correction number 15.

5. In Addenda B and C, incorrect practice expense RVUs were assigned for the following CPT codes: Page 80044 for CPT codes 10021 and 10022; page 80060 for CPT 26587; page 80084 for CPT code 42820; page 80092 for CPT codes 50080, 50081, 50236, 50240; page 80093 for CPT codes 50553, 50555, 50557, 50561, 50684 and 50690; page 80094 for CPT codes 50953, 50955, 50957, 50961, 51010, 51605, 51610, 51710, 51726 and 51726-TC; page 80095 and 80168 for CPT codes 51772, 51772-TC, 51784, 51784-TC, 51785, 51785-TC, 51792, 51792-TC, 51795, 51795-TC, 51798, 52000, 52005, 52010, 52204, 52214, 52224, 52265, 52270, 52275, 52276, 52281, 52282, 52283, 52285, 52310, 52315, 52317, 52330 and 52332; page 80096 for CPT codes 52647, 53025, 53040, 53080, 53085, 53200, 53265 and 53270; page 80093 for CPT codes 53850, 53852, 54000, 54001, 54015, 54055, 54060, 54105, 54111, 54115, 54120, 54125, 54130, 54135, 54160, 54205, 54300, 54304, 54308, 54312, 54324, 54328, 54332, 54360 and 54430; page 80098 for CPT codes 54500, 54700, 55100, 55250, 55450, and 55700; page 80099 for CPT code 55873; page 80100 for CPT code 58340; page 80109 for CPT code 65220; page 80110 for CPT code 66740; page 80110 for CPT codes 66821 and 66984; page 80111 for CPT codes 67820 and 67825; page 80117 for CPT codes 71275 and 71275-TC; page 80119 for CPT codes 72191 and 72191-TC; page 80120 for CPT codes 73206 and 73206-TC; page 80121 for CPT codes 73706 and 73706-TC; page 80122 for CPT codes 74175 and 74175-TC; page 80130 for CPT codes 76519 and 76519-TC; page 80141 for CPT code 88141; page 80145 for CPT codes 91122, 91122-TC, 92014, 92081, 92081-TC, 92083, 92083-TC, 92135 , 92135-TC, 92235; page 80146 for CPT codes 92235-TC, 92250 and 92250-TC; page 80148 for CPT code 93012; page 80153 for CPT codes 94014 and 94015; page 80163 for HCPCS codes G0124 and G0141; page 80165 and 80170 for HCPCS codes G0275, G0278 and G0281; page 80166 and 80170 for HCPCS codes G0283, G0289 and P3001. The corrected RVUs are in item number 16.

6. In Addendum D, on page 80171, the carrier numbers listed for Ohio and West Virginia are incorrect. The corrected numbers are reflected in number 17 to follow.

7. We are revising the title of Addendum E that appeared on the top of every column from page 80172 through page 80174, to read as follows: “Updated List of CPT¹/HCPCS Codes Used to Define Certain Designated Health Services Under the Physician Self-Referral Prohibition (Section 1877 of the Act).” We are also correcting a number of typographical errors. On page 80172, in the second column, the last word in the second subheading concerning HCPCS level 2 codes for physical therapy/occupational therapy/speech-language pathology services is corrected to read “services”. On page 80173, in the third column, the description of CPT codes 93320 and 93321 is corrected to include a dash between CPT codes 93303 and 93308. On page 80174, in the first column, the description of CPT code 93325 is corrected to include a dash between 93303 and 93308. Also on page 80174, in the third column, under the first subheading, the description of CPT code 90657 is corrected to read “Flu vaccine, 6-35 mo, im.”

Also in Addendum E, we erroneously included or excluded certain codes. On page 80172, in the first column, we erroneously included HCPCS codes P2031 and P7001 as clinical laboratory services. We are removing these codes and their descriptors, because they are not payable by Medicare and therefore are not designated health services. On page 80172, in the second column, we inadvertently omitted CPT code 92597. This code is now covered as a speech-pathology service under Medicare and, thus, is being added as a designated health service. Also on page 80172, in the second column, we included CPT 0019T as a physical therapy service. Consistent with changes made elsewhere in this correction notice, we are removing CPT code 0019T and its descriptor because it is no longer valid for Medicare purposes. On page 80174, in the third column under the first subheading, we incorrectly included CPT code 90748 and HCPCS codes Q3021, Q3022, and Q3023 as vaccines to which the physician self-referral prohibition does not apply if certain conditions are satisfied. We are removing CPT code 90748 and its descriptor because it is no longer valid for Medicare purposes. We are removing HCPCS codes Q3021, Q3022 and Q3023 and their descriptors, as these codes have been discontinued. Because CPT codes 90740, 90743, 90744, 90746 and 90747 were reactivated to replace HCPCS codes Q3021-23, we are adding in numeric order CPT codes 90740, 90743, 90744, 90746 and 90747 and their descriptors in place of the removed Q codes.

Lastly, we note that on page 80172 in the third column, we included HCPCS code G0281 as a physical therapy service. In accordance with the Medicare Program Memorandum Transmittal B-03-001 issued on January 17, 2003, Medicare coverage for this service will not begin until April 1, 2003. Although this effective date differs from the March 1, 2003, effective date for the rest of the codes that appear in Addendum E, we have left the code on the list because it is a designated health service subject to the physician self-referral prohibition. Because payment cannot be made before April 1, 2003, there are no self-referral implications until that date.

The corrections to Addendum E are shown in correction numbers 18 and 19 to follow.

II. Correction of Errors

Correction of Errors

In FR Doc. 02-32503 of December 31, 2002 (67 FR 79966), make the following corrections:

1. On page 79966, in column three, in the Comment date section, the seventh sentence is revised as follows to correct the referenced table number: “* * * identified in Table 9, the interim work. * * *”

2. On page 79969, in column two in section E, “Delay in Effective Date”, the last sentence is revised as follows to correct the effective date: “* * * March 1, 2003 * * *”

3. In Table 6, on page 80004 for CPT code 51798, replace the value listed under the column labeled “2003 Work RVU” with “0.00” to agree with discussion on page 80009.

4. On page 80007, fifth paragraph remove the following language “* * * 21740 Reconstructive repair of pectus excavatum or carinatum; open and * * *” and add “and “21743 Reconstructive repair of pectus excavatum or carinatum; minimally invasive approach (Nuss procedure), with thoracoscopy” at the end of the paragraph.

5. On page 80013, in column two, under the discussion of G0279, G0280 and CPT code 0020T, we incorrectly discuss assignment of RVUs for this CPT code contrary to national policy established in the November 1, 2001 (66 FR 55269) final rule. (Based on this we also assigned RVUs to G0279 and G0280). Replace existing language beginning at the last paragraph in column two (“We are creating and establishing a” * * * through the sentence prior to the discussion of Electrical Stimulation for Wound Care in the third column (* * * “total treatments or weekly intervals.”) with the following:

“We are creating two new G codes describing extracorporeal shock wave therapy for the musculoskeletal system. Because we have created these two G codes, we will not recognize CPT code 0019T. Creation of these G codes does not imply that the services will be covered by Medicare. We believe these services are similar to other physical therapy modalities, and when covered, will be paid under the therapy fee schedule and be carrier priced.”

6. On page 80016, in the second paragraph of the second column, the phrase “for January 1, 2003” is revised to read “March 1, 2003.”

7. On page 80017, Table 9—“Additions and Deletions to the Physician Self-Referral Codes” is amended as follows:

a. Under the title, the subheading “HCPCS” is corrected to read “HCPCS/CPT ¹” and the subheading “CPT ¹/Descriptor” is corrected to read “Descriptor”.

b. Under the subheading “Additions,” CPT code 0019T and HCPCS codes Q3021, Q3022 and Q3023 and their descriptors are removed and the following CPT codes and their descriptors are added in numeric order:

90740 Hepb vacc, ill pat 3 dose im

90743 Hep b vacc, adol, 2 dose, im

92597 Oral speech device eval

c. Under the subheading “Deletions,” CPT codes 90744, 90746 and 90747 and their corresponding descriptors are removed and CPT code 90748 and its descriptor “Hep b/hib vaccine, im” is added in numeric order.

8. On page 80018, Table 9 is amended as follows:

a. Under the title, the subheading “HCPCS” is corrected to read “HCPCS/CPT ¹” and the subheading “CPT ¹/Descriptor” is corrected to read “Descriptor”.

b. HCPCS codes P2031 “Hair analysis” and P7001 “Culture bacterial urine” are added in alphanumeric order.

c. In the footnote to Table 9, the words “copyrighted in the” are corrected to read “copyright”.

9. On page 80018, the first column after Table 9 is amended as follows:

a. The first sentence is revised to read: The “Additions” section of Table 9 generally reflects changes to the lists of designated health services to conform them to the most recent publications of CPT and HCPCS codes.”

b. In the second sentence of the first paragraph: the first 2 words of the sentence are removed and replaced with, “One”; and, “0019T,” is removed.

c. In the third sentence of the first paragraph, the phrase “while CPT codes 0019T and 0020T are therapy codes” is revised to read, “while CPT code 0020T is a therapy code.”

d. In the second paragraph that continues into column two, the beginning of the third sentence through the parenthetical phrase “(Q3021, Q3022 and Q3023)” is revised to read, “Table 9 also reflects the addition of 2 vaccine codes (CPT 90740 and 90743)”.

10. On page 80018, the second column is amended as follows:

a. At the end of the partial paragraph at the top of the column, the following sentence is added: “CPT codes 90740 and 90743 were inadvertently omitted from prior years’ lists of codes identifying the preventive screening tests, immunizations, and vaccines that may qualify for this exception.”

b. The first sentence of the first full paragraph is revised to read, “The “Deletions” section of Table 9 generally reflects changes necessary to conform the code list to the most recent publications of CPT and HCPCS codes.”

c. The second sentence of the first full paragraph is revised by adding the word “also,” after the word “We.”

11. On page 80018, in the second column, following the first full paragraph, a new paragraph is added to read as follows:

“We are deleting CPT code 90748 (“Hep b/hib vaccine, im”) and HCPCS codes P2031 (“Hair analysis”) and P7001 (“Culture bacteria urine”). CPT code 90748 is not valid for Medicare purposes. HCPCS codes P2031 and P7001 are not payable by Medicare.”

12. In Addendum B, the following codes are corrected to read as follows:

CPT 1/HCPCS 2 | MOD | Status | Description | Physician work RVUs | Nonfacility PE RVUs | Facility PE RVUs | Malpractice RVUs | Nonfacility total | Facility total | Global
67221 |  | R | Ocular photodynamic ther | 4.01 | 4.63 | 1.88 | 0.16 | 8.80 | 6.05 | 000
90723 |  | I | Dtap-hep b-ipv vaccine, im | 0.00 | 0.00 | 0.00 | 0.00 | 0.00 | 0.00 | XXX
90740 |  | X | Hepb vacc, ill pat 3 dose im | 0.00 | 0.00 | 0.00 | 0.00 | 0.00 | 0.00 | XXX
90743 |  | X | Hep b vacc, adol, 2 dose, im | 0.00 | 0.00 | 0.00 | 0.00 | 0.00 | 0.00 | XXX
90744 |  | X | Hepb vacc ped/adol 3 dose im | 0.00 | 0.00 | 0.00 | 0.00 | 0.00 | 0.00 | XXX
90746 |  | X | Hep b vaccine, adult, im | 0.00 | 0.00 | 0.00 | 0.00 | 0.00 | 0.00 | XXX
90747 |  | X | Hepb vacc, ill pat 4 dose im | 0.00 | 0.00 | 0.00 | 0.00 | 0.00 | 0.00 | XXX
90748 |  | I | Hep b/hib vaccine, im | 0.00 | 0.00 | 0.00 | 0.00 | 0.00 | 0.00 | XXX
92597 |  | A | Oral speech device eval | 0.86 | 1.63 | 0.41 | 0.04 | 2.53 | 1.31 | XXX
93315 |  | C | Echo transescophageal | 0.00 | 0.00 | 0.00 | 0.00 | 0.00 | 0.00 | XXX
93315 | TC | C | Echo transescophageal | 0.00 | 0.00 | 0.00 | 0.00 | 0.00 | 0.00 | XXX
93317 |  | C | Echo transescophageal | 0.00 | 0.00 | 0.00 | 0.00 | 0.00 | 0.00 | XXX
93317 | TC | C | Echo transescophageal | 0.00 | 0.00 | 0.00 | 0.00 | 0.00 | 0.00 | XXX
95951 |  | C | EEG monitoring/videorecord | 0.00 | 0.00 | 0.00 | 0.00 | 0.00 | 0.00 | XXX
95951 | TC | C | EEG monitoring/videorecord | 0.00 | 0.00 | 0.00 | 0.00 | 0.00 | 0.00 | XXX
99026 |  | N | In-hospital on call service | 0.00 | 0.00 | 0.00 | 0.00 | 0.00 | 0.00 | XXX
99027 |  | N | Out-of-hosp on call service | 0.00 | 0.00 | 0.00 | 0.00 | 0.00 | 0.00 | XXX
G0125 |  | C | PET image pulmonary nodule | 0.00 | 0.00 | 0.00 | 0.00 | 0.00 | 0.00 | XXX
G0125 | TC | C | PET image pulmonary nodule | 0.00 | 0.00 | 0.00 | 0.00 | 0.00 | 0.00 | XXX
G0219 |  | N | PET imgwholbod melano nonco | 0.00 | 0.00 | 0.00 | 0.00 | 0.00 | 0.00 | XXX
G0219 | 26 | N | PET imgwholbod melano nonco | 0.00 | 0.00 | 0.00 | 0.00 | 0.00 | 0.00 | XXX
G0255 |  | N | Current percep threshold tst | 0.00 | 0.00 | 0.00 | 0.00 | 0.00 | 0.00 | XXX
G0255 | 26 | N | Current percep threshold tst | 0.00 | 0.00 | 0.00 | 0.00 | 0.00 | 0.00 | XXX
J3370 |  | E | Vancomycin hci injection | 0.00 | 0.00 | 0.00 | 0.00 | 0.00 | 0.00 | XXX

13. In Addenda B and C, the following codes are corrected to read as follows:

CPT 1/HCPCS 2 | MOD | Status | Description | Physician work RVUs | Nonfacility PE RVUs | Facility PE RVUs | Malpractice RVUs | Nonfacility total | Facility total | Global
33224 |  |  | Insert pacing lead & connect | 9.05 | NA | 3.92 | 0.36 | NA | 13.33 | 000
58550 |  |  | Laparo-asst vag hysterectomy | 14.19 | NA | 7.21 | 1.44 | NA | 22.84 | 090
77789 |  |  | Apply surface radiation | 1.12 | 0.84 | NA | 0.05 | 2.01 | NA | 000
77789 | 26 |  | Apply surface radiation | 1.12 | 0.39 | 0.39 | 0.03 | 1.54 | 1.54 | 000
77789 | TC |  | Apply surface radiation | 0.00 | 0.45 | NA | 0.02 | 0.47 | NA | 000

14. In Addenda B and C, the following codes are corrected to read as follows:

CPT 1/HCPCS 2 | MOD | Status | Description | Physician work RVUs | Nonfacility PE RVUs | Facility PE RVUs | Malpractice RVUs | Nonfacility total | Facility total | Global
0019T |  | I | Extracorp shock wave tx, ms | 0.00 | 0.00 | 0.00 | 0.00 | 0.00 | 0.00 | XXX
0020T |  | C | Extracorp shock wave tx, ft | 0.00 | 0.00 | 0.00 | 0.00 | 0.00 | 0.00 | XXX
G0279 |  | C | Excorp shock tx, elbow epi | 0.00 | 0.00 | 0.00 | 0.00 | 0.00 | 0.00 | XXX
G0280 |  | C | Excorp shock tx, other than | 0.00 | 0.00 | 0.00 | 0.00 | 0.00 | 0.00 | XXX

15. In Addendum B, the following codes are corrected to read as follows:

CPT 1/HCPCS 2 | MOD | Status | Description | Physician work RVUs | Nonfacility PE RVUs | Facility PE RVUs | Malpractice RVUs | Nonfacility total | Facility total | Global
53853 |  | A | Prostatic water thermother | 5.24 | 38.96 | 3.67 | 0.27 | 44.47 | 9.18 | 090
66710 |  | A | Destruction, ciliary body | 4.78 | 5.14 | 3.81 | 0.18 | 10.10 | 8.77 | 090
66720 |  | A | Destruction, ciliary body | 4.78 | 5.45 | 4.49 | 0.19 | 10.42 | 9.46 | 090
66761 |  | A | Revision of iris | 4.07 | 5.25 | 3.98 | 0.16 | 9.48 | 8.21 | 090
66762 |  | A | Revision of iris | 4.58 | 5.33 | 3.97 | 0.18 | 10.09 | 8.73 | 090
66770 |  | A | Removal of inner eye lesion | 5.18 | 5.76 | 4.48 | 0.20 | 11.14 | 9.86 | 090

16. In addenda B and C, the following codes are corrected to read as follows:

CPT 1/HCPCS 2 | MOD | Status | Description | Physician work RVUs | Nonfacility PE RVUs | Facility PE RVUs | Malpractice RVUs | Non-Facility | Facility total | Global
10021 |  | A | Fna w/o image | 1.27 | 2.37 | 0.53 | 0.07 | 3.71 | 1.87 | XXX
10022 |  | A | Fna w/ image | 1.27 | 2.66 | 0.44 | 0.05 | 3.98 | 1.76 | XXX
26587 |  | A | Reconstruct extra finger | 14.05 | 6.36 | 4.76 | 1.12 | 21.53 | 19.93 | 090
42820 |  | A | Remove tonsils and adenoids | 3.91 | 4.25 | 4.25 | 0.28 | 8.44 | 8.44 | 090
50080 |  | A | Removal of kidney stone | 14.71 | 10.16 | 10.16 | 0.86 | 25.73 | 25.73 | 090
50081 |  | A | Removal of kidney stone | 21.80 | 12.23 | 12.23 | 1.30 | 35.33 | 35.33 | 090
50236 |  | A | Removal of kidney & ureter | 24.86 | 13.21 | 13.21 | 1.50 | 39.57 | 39.57 | 090
50240 |  | A | Partial removal of kidney | 22.00 | 12.33 | 12.33 | 1.36 | 35.69 | 35.69 | 090
50553 |  | A | Kidney endoscopy | 5.99 | 14.02 | 2.00 | 0.35 | 20.36 | 8.34 | 000
50555 |  | A | Kidney endoscopy & biopsy | 6.53 | 16.01 | 2.17 | 0.38 | 22.92 | 9.08 | 000
50557 |  | A | Kidney endoscopy & treatment | 6.62 | 14.80 | 2.18 | 0.39 | 21.81 | 9.19 | 000
50561 |  | A | Kidney endoscopy & treatment | 7.59 | 14.09 | 2.51 | 0.44 | 22.12 | 10.54 | 000
50684 |  | A | Injection for ureter x-ray | 0.76 | 12.61 | 0.25 | 0.04 | 13.41 | 1.05 | 000
50690 |  | A | Injection for ureter x-ray | 1.16 | 12.77 | 0.39 | 0.06 | 13.99 | 1.61 | 000
50953 |  | A | Endoscopy of ureter | 6.24 | 13.95 | 2.06 | 0.37 | 20.56 | 8.67 | 000
50955 |  | A | Endoscopy of ureter | 6.75 | 17.98 | 2.26 | 0.38 | 25.11 | 9.39 | 000
50957 |  | A | Ureter endoscopy & treatment | 6.79 | 13.79 | 2.24 | 0.40 | 20.98 | 9.43 | 000
50961 |  | A | Ureter endoscopy & treatment | 6.05 | 17.61 | 1.99 | 0.35 | 24.01 | 8.39 | 000
51010 |  | A | Drainage of bladder | 3.53 | 5.71 | 2.08 | 0.23 | 9.47 | 5.84 | 010
51605 |  | A | Preparation for bladder x-ray | 0.64 | 13.63 | 0.22 | 0.04 | 14.31 | 0.90 | 000
51610 |  | A | Injection for bladder x-ray | 1.05 | 13.41 | 0.35 | 0.05 | 14.51 | 1.45 | 000
51710 |  | A | Change of bladder tube | 1.49 | 3.90 | 1.30 | 0.09 | 5.48 | 2.88 | 010
51726 |  | A | Complex cystometrogram | 1.71 | 6.97 | 6.97 | 0.15 | 8.83 | 8.83 | 000
51726 | TC | A | Complex cystometrogram | 0.00 | 6.39 | 6.39 | 0.04 | 6.43 | 6.43 | 000
51772 |  | A | Urethra pressure profile | 1.61 | 6.32 | 6.32 | 0.16 | 8.09 | 8.09 | 000
51772 | TC | A | Urethra pressure profile | 0.00 | 5.75 | 5.75 | 0.04 | 5.79 | 5.79 | 000
51784 |  | A | Anal/urinary muscle study | 1.53 | 5.25 | 5.25 | 0.13 | 6.91 | 6.91 | 000
51784 | TC | A | Anal/urinary muscle study | 0.00 | 4.73 | 4.73 | 0.03 | 4.76 | 4.76 | 000
51785 |  | A | Anal/urinary muscle study | 1.53 | 5.27 | 5.27 | 0.12 | 6.92 | 6.92 | 000
51785 | TC | A | Anal/urinary muscle study | 0.00 | 4.75 | 4.75 | 0.03 | 4.78 | 4.78 | 000
51792 |  | A | Urinary reflex study | 1.10 | 5.44 | 5.44 | 0.20 | 6.74 | 6.74 | 000
51792 | TC | A | Urinary reflex study | 0.00 | 5.01 | 5.01 | 0.11 | 5.12 | 5.12 | 000
51795 |  | A | Urine voiding pressure study | 1.53 | 6.70 | 6.70 | 0.18 | 8.41 | 8.41 | 000
51795 | TC | A | Urine voiding pressure study | 0.00 | 6.18 | 6.18 | 0.08 | 6.26 | 6.26 | 000
51798 |  | A | Us urine capacity measure | 0.00 | 0.58 | NA | 0.07 | 0.65 | NA | XXX
52000 |  | A | Cystoscopy | 2.01 | 4.57 | 0.78 | 0.12 | 6.70 | 2.91 | 000
52005 |  | A | Cystoscopy & ureter catheter | 2.37 | 6.38 | 0.92 | 0.15 | 8.90 | 3.44 | 000
52010 |  | A | Cystoscopy & duct catheter | 3.02 | 7.77 | 1.15 | 0.18 | 10.97 | 4.35 | 000
52204 |  | A | Cystoscopy | 2.37 | 5.44 | 0.93 | 0.15 | 7.96 | 3.45 | 000
52214 |  | A | Cystoscopy and treatment | 3.71 | 7.24 | 1.36 | 0.22 | 11.17 | 5.29 | 000
52224 |  | A | Cystoscopy and treatment | 3.14 | 6.12 | 1.18 | 0.18 | 9.44 | 4.50 | 000
52265 |  | A | Cystoscopy and treatment | 2.94 | 5.67 | 1.14 | 0.18 | 8.79 | 4.26 | 000
52270 |  | A | Cystoscopy & revise urethra | 3.37 | 6.41 | 1.34 | 0.20 | 9.98 | 4.91 | 000
52275 |  | A | Cystoscopy & revise urethra | 4.70 | 7.11 | 1.78 | 0.28 | 12.09 | 6.76 | 000
52276 |  | A | Cystoscopy and treatment | 5.00 | 8.01 | 1.90 | 0.30 | 13.31 | 7.20 | 000
52281 |  | A | Cystoscopy and treatment | 2.80 | 8.05 | 1.10 | 0.17 | 11.02 | 4.07 | 000
52282 |  | A | Cystoscopy, implant stent | 6.40 | 13.08 | 2.29 | 0.38 | 19.86 | 9.07 | 000
52283 |  | A | Cystoscopy and treatment | 3.74 | 5.86 | 1.41 | 0.22 | 9.82 | 5.37 | 000
52285 |  | A | Cystoscopy and treatment | 3.61 | 6.31 | 1.37 | 0.22 | 10.14 | 5.20 | 000
52310 |  | A | Cystoscopy and treatment | 2.81 | 4.73 | 1.05 | 0.17 | 7.71 | 4.03 | 000
52315 |  | A | Cystoscopy and treatment | 5.21 | 5.75 | 1.88 | 0.31 | 11.27 | 7.40 | 000
52317 |  | A | Remove bladder stone | 6.72 | 7.82 | 2.34 | 0.40 | 14.94 | 9.46 | 000
52330 |  | A | Cystoscopy and treatment | 5.04 | 17.40 | 1.80 | 0.30 | 22.74 | 7.14 | 000
52332 |  | A | Cystoscopy and treatment | 2.83 | 16.40 | 1.07 | 0.17 | 19.40 | 4.07 | 000
52647 |  | A | Laser surgery of prostate | 10.36 | 42.87 | 4.57 | 0.61 | 53.84 | 15.54 | 090
53025 |  | A | Incision of urethra | 1.13 | 3.69 | 0.45 | 0.07 | 4.89 | 1.65 | 000
53040 |  | A | Drainage of urethra abscess | 6.40 | 11.86 | 7.17 | 0.41 | 18.67 | 13.98 | 090
53080 |  | A | Drainage of urinary leakage | 6.29 | 7.22 | 7.22 | 0.42 | 13.93 | 13.93 | 090
53085 |  | A | Drainage of urinary leakage | 10.27 | 8.63 | 8.63 | 0.67 | 19.57 | 19.57 | 090
53200 |  | A | Biopsy of urethra | 2.59 | 4.76 | 0.95 | 0.17 | 7.52 | 3.71 | 000
53265 |  | A | Treatment of urethra lesion | 3.12 | 5.77 | 2.28 | 0.20 | 9.09 | 5.60 | 010
53270 |  | A | Removal of urethra gland | 3.09 | 5.58 | 2.52 | 0.21 | 8.88 | 5.82 | 010
53850 |  | A | Prostatic microwave thermotx | 9.45 | 63.30 | 4.25 | 0.56 | 73.31 | 14.26 | 090
53852 |  | A | Prostatic rf thermotx | 9.88 | 52.42 | 4.43 | 0.58 | 62.88 | 14.89 | 090
54000 |  | A | Slitting of prepuce | 1.54 | 4.77 | 1.40 | 0.10 | 6.41 | 3.04 | 010
54001 |  | A | Slitting of prepuce | 2.19 | 5.36 | 2.01 | 0.14 | 7.69 | 4.34 | 010
54015 |  | A | Drain penis lesion | 5.32 | 6.51 | 3.05 | 0.33 | 12.16 | 8.70 | 010
54055 |  | A | Destruction, penis lesion(s) | 1.22 | 5.59 | 1.39 | 0.07 | 6.88 | 2.68 | 010
54060 |  | A | Excision of penis lesion(s) | 1.93 | 4.89 | 1.56 | 0.12 | 6.94 | 3.61 | 010
54105 |  | A | Biopy of penis | 3.50 | 5.55 | 2.07 | 0.21 | 9.26 | 5.78 | 010
54111 |  | A | Treat penis lesion, graft | 13.57 | 8.38 | 8.38 | 0.79 | 22.74 | 22.74 | 090
54115 |  | A | Treatment of penis lesion | 6.15 | 9.53 | 6.06 | 0.39 | 16.07 | 12.60 | 090
54120 |  | A | Partial removal of penis | 9.97 | 7.23 | 7.23 | 0.60 | 17.80 | 17.80 | 090
54125 |  | A | Removal of penis | 13.53 | 8.43 | 8.43 | 0.81 | 22.77 | 22.77 | 090
54130 |  | A | Remove penis & nodes | 20.14 | 10.94 | 10.94 | 1.19 | 32.27 | 32.27 | 090
54135 |  | A | Remove penis & nodes | 26.36 | 13.00 | 13.00 | 1.58 | 40.94 | 40.94 | 090
54160 |  | A | Circumcision | 2.48 | 4.97 | 1.75 | 0.16 | 7.61 | 4.39 | 010
54205 |  | A | Treatment of penis lesion | 7.93 | 6.47 | 6.47 | 0.47 | 14.87 | 14.87 | 090
54300 |  | A | Revision of penis | 10.41 | 8.04 | 8.04 | 0.54 | 18.99 | 18.99 | 090
54304 |  | A | Revision of penis | 12.49 | 9.25 | 9.25 | 0.74 | 22.48 | 22.48 | 090
54308 |  | A | Reconstruction of urethra | 11.83 | 8.82 | 8.82 | 0.70 | 21.35 | 21.35 | 090
54312 |  | A | Reconstruction of urethra | 13.57 | 9.87 | 9.87 | 0.81 | 24.25 | 24.25 | 090
54324 |  | A | Reconstruction of urethra | 16.31 | 11.06 | 11.06 | 1.03 | 28.40 | 28.40 | 090
54328 |  | A | Revise penis/urethra | 15.65 | 10.09 | 10.09 | 0.92 | 26.66 | 26.66 | 090
54332 |  | A | Revise penis/urethra | 17.08 | 10.56 | 10.56 | 1.01 | 28.65 | 28.65 | 090
54360 |  | A | Penis plastic surgery | 11.93 | 7.85 | 7.85 | 0.72 | 20.50 | 20.50 | 090
54430 |  | A | Revision of penis | 10.15 | 7.27 | 7.27 | 0.60 | 18.02 | 18.02 | 090
54500 |  | A | Biopsy of testis | 1.31 | 5.46 | 0.44 | 0.08 | 6.85 | 1.83 | 000
54700 |  | A | Drainage of scrotum | 3.43 | 7.02 | 3.06 | 0.23 | 10.68 | 6.72 | 010
55100 |  | A | Drainage of scrotum abscess | 2.13 | 7.87 | 3.22 | 0.15 | 10.15 | 5.50 | 010
55250 |  | A | Removal of sperm duct(s) | 3.29 | 7.70 | 2.92 | 0.21 | 11.20 | 6.42 | 090
55450 |  | A | Ligation of sperm duct | 4.12 | 5.98 | 2.43 | 0.24 | 10.34 | 6.79 | 010
55700 |  | A | Biopsy of prostate | 1.57 | 3.50 | 0.73 | 0.10 | 5.17 | 2.40 | 000
55873 |  | A | Cryoblate prostate | 19.47 | 9.46 | 9.46 | 1.02 | 29.95 | 29.95 | 090
58340 |  | A | Catheter for hysterography | 0.88 | 12.74 | 0.32 | 0.08 | 13.70 | 1.28 | 000
65220 |  | A | Remove foreign body from eye | 0.71 | 3.50 | 0.18 | 0.05 | 4.26 | 0.94 | 000
66740 |  | A | Destruction, ciliary body | 4.78 | 4.84 | 4.84 | 0.18 | 9.80 | 9.80 | 090
66821 |  | A | After cataract laser surgery | 2.35 | 3.83 | 3.39 | 0.10 | 6.28 | 5.84 | 090
66984 |  | A | Cataract surg w/iol, 1 stage | 10.23 | NA | 7.65 | 0.41 | NA | 18.29 | 090
67820 |  | A | Revise eyelashes | 0.89 | 1.14 | 0.38 | 0.04 | 2.07 | 1.31 | 000
67825 |  | A | Revise eyelashes | 1.38 | 1.62 | 1.03 | 0.06 | 3.06 | 2.47 | 010
71275 |  | A | Ct angiography, chest | 1.92 | 12.98 | 12.98 | 0.38 | 15.28 | 15.28 | XXX
71275 | TC | A | Ct angiography, chest | 0.00 | 12.33 | 12.33 | 0.32 | 12.65 | 12.65 | XXX
72191 |  | A | Ct angiograph, pelv w/o & w/dye | 1.81 | 12.59 | 12.59 | 0.38 | 14.78 | 14.78 | XXX
72191 | TC | A | Ct angiograph, pelv w/o & w/dye | 0.00 | 11.97 | 11.97 | 0.32 | 12.29 | 12.29 | XXX
73206 |  | A | Ct angio upr extrm w/o & w/dye | 1.81 | 11.54 | 11.54 | 0.38 | 13.73 | 13.73 | XXX
73206 | TC | A | Ct angio upr extrm w/o & w/dye | 0.00 | 10.92 | 10.92 | 0.32 | 11.24 | 11.24 | XXX
73706 |  | A | Ct angio lwr extr w/o & w/dye | 1.90 | 11.57 | 11.57 | 0.38 | 13.85 | 13.85 | XXX
73706 | TC | A | Ct angio lwr extr w/o & w/dye | 0.00 | 10.92 | 10.92 | 0.32 | 11.24 | 11.24 | XXX
74175 |  | A | Ct angio abdom w/o & w/dye | 1.90 | 12.62 | 12.62 | 0.38 | 14.90 | 14.90 | XXX
74175 | TC | A | Ct angio abdom w/o & w/dye | 0.00 | 11.97 | 11.97 | 0.32 | 12.29 | 12.29 | XXX
76519 |  | A | Echo exam of eye | 0.54 | 1.93 | NA | 0.07 | 2.54 | NA | XXX
76519 | TC | A | Echo exam of eye | 0.00 | 1.68 | NA | 0.06 | 1.74 | NA | XXX
88141 |  | A | Cytopath, c/v, interpret | 0.42 | 0.19 | 0.19 | 0.01 | 0.62 | 0.62 | XXX
91122 |  | A | Anal pressure record | 1.77 | 4.55 | 4.55 | 0.17 | 6.49 | 6.49 | 000
91122 | TC | A | Anal pressure record | 0.00 | 3.93 | 3.93 | 0.07 | 4.00 | 4.00 | 000
92014 |  | A | Eye exam & treatment | 1.10 | 1.37 | 0.48 | 0.02 | 2.49 | 1.60 | XXX
92081 |  | A | Visual field examination(s) | 0.36 | 0.89 | NA | 0.02 | 1.27 | NA | XXX
92081 | TC |  | Visual field examination(s) | 0.00 | 0.73 | NA | 0.01 | 0.74 | NA | XXX
92083 |  | A | Visual field examination(s) | 0.50 | 1.37 | NA | 0.02 | 1.89 | NA | XXX
92083 | TC |  | Visual field examination(s) | 0.00 | 1.14 | NA | 0.01 | 1.15 | NA | XXX
92135 |  |  | Opthalmic dx imaging | 0.35 | 1.32 | NA | 0.02 | 1.69 | NA | XXX
92135 | TC |  | Opthalmic dx imaging | 0.00 | 1.16 | NA | 0.01 | 1.17 | NA | XXX
92235 |  |  | Eye exam with photos | 0.81 | 2.68 | NA | 0.07 | 3.56 | NA | XXX
92235 | TC |  | Eye exam with photos | 0.00 | 2.31 | NA | 0.05 | 2.36 | NA | XXX
92250 |  |  | Eye exam with photos | 0.44 | 1.54 | NA | 0.02 | 2.00 | NA | XXX
92250 | TC |  | Eye exam with photos | 0.00 | 1.35 | NA | 0.01 | 1.26 | NA | XXX
93012 |  | A | Transmission of ecg | 0.00 | 5.99 | NA | 0.15 | 6.14 | NA | XXX
94014 |  | A | Patient recorded spirometry | 0.52 | 0.98 | NA | 0.03 | 1.53 | NA | XXX
94015 |  | A | Patient recorded spirometry | 0.00 | 0.81 | NA | 0.01 | 0.82 | NA | XXX
G0124 |  | A | Screen c/v thin layer by MD | 0.42 | 0.19 | 0.19 | 0.01 | 0.62 | 0.62 | XXX
G0141 |  | A | Scr c/v cyto, autosys and MD | 0.42 | 0.19 | 0.19 | 0.01 | 0.62 | 0.62 | XXX
G0275 |  | A | Renal angio, cardiac cath | 0.25 | 0.10 | 0.10 | 0.01 | 0.36 | 0.36 | ZZZ
G0278 |  | A | Iliac art angio, cardiac cath | 0.25 | 0.10 | 0.10 | 0.01 | 0.36 | 0.36 | ZZZ
G0281 |  | A | Elec stim unattend for press | 0.18 | 0.16 | 0.16 | 0.01 | 0.35 | 0.35 | XXX
G0283 |  | A | Elec stim other than wound | 0.18 | 0.16 | 0.16 | 0.01 | 0.35 | 0.35 | XXX
G0289 |  | A | Arthro, loose body + chondro | 1.48 | 0.58 | 0.58 | 0.27 | 2.33 | 2.33 | ZZZ
P3001 |  | A | Screening pap smear by phys | 0.42 | 0.19 | 0.19 | 0.01 | 0.62 | 0.62 | XXX

17. In the table of addendum D the following carrier numbers are corrected as follows:

Addendum D
[Corrected]
Carrier no. | Locality no. | Locality name | Work | Practice expense | Malpractice
00883 | 00 | OHIO | 0.988 | 0.944 | 0.957
00884 | 16 | WEST VIRGINIA | 0.963 | 0.850 | 1.378

Addendum E [Corrected]

18. In Addendum E, the following CPT codes and their descriptors are added:

PHYSICAL THERAPY, OCCUPATIONAL THERAPY, AND SPEECH-LANGUAGE PATHOLOGY
92597 | Oral speech device eval
PREVENTIVE SCREENING TESTS, IMMUNIZATIONS AND VACCINES
90740 | Hepb vacc, ill pat 3 dose im
90743 | Hep b vacc, adol, 2 dose, im
90744 | Hepb vacc ped/adol 3 dose im
90746 | Hep b vaccine, adult, im
90747 | Hepb vacc, ill pat 4 dose im

19. In Addendum E, the following CPT and HCPCS codes and their descriptors are removed:

CLINICAL LABORATORY SERVICES
P2031 | Hair analysis
P7001 | Culture bacterial urine
PHYSICAL THERAPY, OCCUPATIONAL THERAPY, AND SPEECH-LANGUAGE PATHOLOGY
0019T | Extracorp shock wave tx, ms
PREVENTIVE SCREENING TESTS, IMMUNIZATIONS AND VACCINES
90748 | Hep b/hib vaccine, im
Q3021 | Ped hepatitis b vaccine inj
Q3022 | Hepatitis b vaccine adult ds
Q3023 | Injection hepatitis Bvaccine

III. Waiver of Proposed Rulemaking

We ordinarily publish a notice of proposed rulemaking in the Federal Register to provide a period for public comment before the provisions of a notice take effect. We can waive this procedure, however, if we find good cause that notice and comment procedure is impracticable, unnecessary, or contrary to the public interest and incorporate a statement of the finding and the reasons for it into the notice issued.

We find it unnecessary to undertake notice and comment rulemaking because this notice merely provides technical corrections to the regulations. Therefore, we find good cause to waive notice and comment procedures.

Dated: April 24, 2003.
Ann Agnew,
Executive Secretary to the Department.

[FR Doc. 03-11747 Filed 5-29-03; 8:45 am]

BILLING CODE 4120-01-P